DEPARTMENT OF HEALTH AND HUMAN SERVICES

Notification of a Single Source Cooperative Agreement Award for the Pasteur Foundation

AGENCY: Department of Health and Human Services, Office of the Assistant Secretary for Preparedness and Response

Authority: Sections 301, 307, 1701, and 2811 of the Public Health Service Act, 42 U.S.C. 241, 242l, 300u and 300hh-10.

ACTION: Notice

SUMMARY: The Department of Health and Human Services (HHS) Assistant Secretary for Preparedness and Response (ASPR) Office of Policy and Planning (OPP), intends to provide a Single Source Cooperative Agreement Award to the Pasteur Foundation for project activities carried out by the Pasteur Institute to support global health security enhancements and International Health Regulations (IHR) (2005) implementation in select Sub-Saharan African and Southeast Asian countries. Specifically, ASPR, in close coordination with the HHS Centers for Disease Control and Prevention (CDC) and other U.S. Government (USG) stakeholders, will collaborate with the Pasteur Institute and select affiliate institutes within the Pasteur Institute International Network (IPIN) in Cameroon, Central African Republic, Ivory Coast, Madagascar, Senegal, and Cambodia to sustain and strengthen preparedness, detection, and communication capacities for pandemic influenza and other emerging and re-emerging infectious diseases in support of IHR (2005). Recognizing that the health security of the American people is intrinsically linked to the world's health security, and that international cooperation is critical to enhance global health security, this program is aligned with Article 44 of the IHR (2005), which directs State Parties to collaborate to detect, assess, and respond to events while developing, strengthening, and maintaining core public health surveillance and response capacities. The proposed cooperative agreement is also aligned with the Global Health Security Agenda that calls for action to accelerate progress toward a world safe and secure from infectious disease threats, and to promote global health security as an international security priority by preventing and reducing the likelihood of infectious diseases outbreaks, detecting threats early, and rapidly and effective responding to disease outbreaks that require multi-sectorial, international coordination and communication.¹

¹ http://www.globalhealth.gov/global-health-topics/global-health-security/ghsagenda.html.

DATES: The period of performance is from September 30, 2014 to September 29, 2019.

Award Amount: $3.8-$4.2 million

SUPPLEMENTARY INFORMATION: The Division of International Health Security in the Office of Policy and Planning is the program office for this award.

Single Source Justification: The H1N1 2009 influenza pandemic, outbreaks of novel influenza viruses with pandemic potential (e.g., A/H7N9 and A/H5N1), growing global concern about potential public health emergencies of international concern (PHEIC) due to Ebola, dengue, Chikungunya, Middle East Respiratory Syndrome coronavirus, and the very recent declaration of polio as a PHEIC,² highlight continued and persistent global disease threats with the potential to affect the health security of the American people. The HHS collaboration with international partners such as the Pasteur Institute is a critical element in the strategy to prevent, respond to, and contain infectious diseases before they spread.

² http://www.who.int/mediacentre/news/statements/2014/polio-20140505/en/.

To this end, HHS and the Pasteur Institute signed two Memorandums of Understanding with the World Health Organization (WHO) in 2012, agreeing to support IHR (2005) implementation and global health security by supporting international collaborations to prevent, prepare for, and respond to influenza and other emerging diseases. The Pasteur Institute possesses unique capabilities for global capacity-building. The IPIN, a network of laboratories in 32 countries, spans five regions around the globe, and is further connected with multiple international stakeholders, including the CDC, the WHO Global Influenza Surveillance and Response System, and WHO's Emerging and Dangerous Pathogens Laboratory Networks. More than 70 percent of the IPIN affiliates are located in disease outbreak hotspots prone to public health threats. The Pasteur Institute and its affiliates represent an advanced surveillance and laboratory network that is integrated with the public health infrastructure of respective Ministries of Health, which is vital to the host country's preparedness and response efforts.

ASPR, the Pasteur Institute, and IPIN affiliates have collaborated on global health security efforts in recent years in partnership with countries in Sub-Saharan Africa and Southeast Asia. Efforts enhanced implementation of IHR (2005) core capacities focusing on detection and management of actual or potential PHEICs caused by novel influenza viruses with pandemic potential, including rapidly alerting the WHO and other countries for a faster, more systematic, and comprehensive response.

In the last seven years, ASPR has worked closely with the Pasteur Institute and IPIN through a series of cooperative agreements that included collaborations with CDC, the WHO, and partner countries to build capacity to prepare for and respond to pandemic influenza. These capacities were evident during the H1N1 2009 pandemic influenza, where IPIN affiliates in countries supported by previous cooperative agreements were among the first countries to rapidly establish surveillance systems and laboratory capacity for H1N1. The achievements of the previous programs include, among others, the establishment of 80 sentinel surveillance sites for influenza-like illness and the establishment of hospital-based surveillance for severe acute respiratory illnesses in Senegal, Cameroon, Central African Republic, and the Ivory Coast. In many of these countries, these were the very first efforts to implement surveillance programs for influenza. As a result, these programs enabled the detection of influenza strains circulating in Sub-Saharan Africa, helped monitor an antiviral resistance strain, and supported the development of laboratory capacity to detect for the first time, more than 17 different respiratory viruses in the Central African Republic, Cameroon, and Senegal. Overall, laboratory infrastructure for influenza surveillance was strengthened, resulting in three Institutes Pasteur affiliates designated as National Reference Centers for influenza; four laboratories designated as National Influenza Centers in Senegal, Cameroon, Central African Republic, and the Ivory Coast; and construction of Biosafety Level 3 laboratories in Cambodia and in the Central African Republic.

IPIN and ASPR also supported enhancement of IHR National Focal Point coordination and communication capacities by providing equipment and training. Past collaboration efforts between ASPR and the Pasteur Institute also supported bilateral relationships between the United States and France, Cameroon, Ivory Coast, Madagascar, the Central African Republic, Senegal, Cambodia, Laos, and regional partnerships with WHO regional offices, particularly in Sub-Saharan Africa and Southeast Asia. Other specific achievements, supported at least in part by this collaboration, include the discovery of the genetic drift of A/H5N1 in Cambodia. This resulted in regional and international collaboration and exchanges of results and samples among stakeholders including Cambodia's Ministries of Health, Agriculture, Forestry and Fishery, and the U.S. Agency for International Development, CDC, IPIN, the Food and Agricultural Organization, and the WHO. The capacities established by the ASPR-Pasteur Institute collaboration on pandemic influenza also enhanced preparedness and response to other emerging infectious diseases. For example, it allowed the Institute Pasteur of Dakar, Senegal, to maintain the WHO Collaborating Center for arborviruses which detected the Ebola virus and deployed researchers to support recent outbreaks in West Africa.

The policy and technical reach of IPIN across multiple continents, their access to technologically advanced laboratory facilities, their ability to draw upon a core of highly accomplished scientists, and their large network of other governmental, private, and non-governmental partnerships allows them to rapidly and expertly accomplish large-scale policy implementation and programmatic initiatives. These factors, combined with the historically strong relationship between the Pasteur Institute and HHS, and a proven track record of fiscal responsibility, fully justifies a sole source award. In conclusion, contributing to and supporting global health security and pandemic influenza preparedness remain an HHS priority. After careful and thorough consideration of other potential partners, ASPR concluded that the Pasteur Institute is the only partner with proven capabilities and capacities to meet HHS's mandate to strengthen influenza preparedness in countries prone to disease outbreaks where the United States has not a long-standing bilateral relationship. For the reasons stated above, the Pasteur Institute is uniquely qualified and the only appropriate partner to facilitate and support successful completion of the proposed project.

FOR FURTHER INFORMATION CONTACT: Please submit an inquiry via the ASPR-OPP Division of International Health Security—IHR Program Contact Form located at http://www.phe.gov/Preparedness/international/ihr/Pages/IHRInquiry.aspx.

Dated: July 18, 2014.
Nicole Lurie,
Assistant Secretary for Preparedness and Response.

[FR Doc. 2014-17457 Filed 7-23-14; 8:45 am]

BILLING CODE 4150-37-P